DEPARTMENT OF DEFENSE

Department of the Army

[Docket ID: USA-2024-HQ-0005]

Proposed Collection; Comment Request

AGENCY: U.S. Army Corps of Engineers (USACE), Department of the Army, Department of Defense (DoD).

ACTION: 60-Day information collection notice.

SUMMARY: In compliance with the Paperwork Reduction Act of 1995, the USACE announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 28, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Institute for Water Resources, Navigation and Civil Works Decision Support Center, 7701 Telegraph Road, Alexandria, VA 22315-3868, ATTN: Steven D. Riley or call 703-428-6380.

SUPPLEMENTARY INFORMATION:

Title; Associated Form; and OMB Number: Lock Performance Monitoring System Waterway Traffic Report; ENG Forms 3102C and 3102D; OMB Control Number 0710-0008.

Needs and Uses: The USACE utilizes the data collected to monitor and analyze the use and operation of federally owned or operated locks. General data of vessel identification, tonnage, and commodities are supplied by the master of vessels and all locks owned and operated by the USACE. The information is used for sizing and scheduling replacements, the timing of rehabilitation or maintenance actions, and the setting of operation procedures and closures for locks and canals. Respondents are vessel operators who provide the vessel identification, tonnage. and community information as stipulated on ENG Form 3012C, “Waterway Traffic Report—Vessel Log” or ENG Form 3102D, “Waterway Traffic Report—Detail Vessel Log.” The information is applied to navigation system management to identify and prioritize lock maintenance, rehabilitation, or replacement. It is also used to measure waterway performance and the level of service of the national waterway systems.

Affected Public: Business or other for-profit.

Annual Burden Hours: 23,504.

Number of Respondents: 6,529.

Responses per Respondent: 72.

Annual Responses: 470,088.

Average Burden per Response: 3 minutes.

Frequency: On occasion.

Dated: March 19, 2024.
Aaron T. Siegel,
Alternate OSD Federal Register Liaison Officer, Department of Defense.

[FR Doc. 2024-06382 Filed 3-25-24; 8:45 am]

BILLING CODE 6001-FR-P